DEPARTMENT OF TRANSPORTATION

Federal Motor Carrier Safety Administration

[Docket No. FMCSA-2011-0131]

Medical Review Board Public Meeting; Correction and Republication

AGENCY: Federal Motor Carrier Safety Administration (FMCSA), United States Department of Transportation (DOT).

ACTION: Correction and Republication; Notice of Medical Review Board (MRB) Public Meeting.

SUMMARY: The FMCSA published a notice in the Federal Register (FR Doc. 2011-11576, 76 FR 27375, May 11, 2011) announcing that the Agency's Medical Review Board will hold a committee meeting on June 30, 2011. The meeting will provide the public an opportunity to observe and participate in MRB deliberations about its recommendations for changes to the Federal Motor Carrier Safety Regulations' medical standards, in accordance with the Federal Advisory Committee Act (FACA). The notice referenced an incorrect FMCSA docket number. For the convenience of the public, FMCSA republishes this notice referencing the correct docket number.

DATES: The MRB meeting will be held from 10 a.m.-4 p.m. on June 30, 2011. Please note the preliminary agenda for this meeting in the SUPPLEMENTARY INFORMATION section of this notice for specific information.

ADDRESSES: The meeting will take place at the Hilton-Alexandria Old Town, 1767 King Street, Alexandria, VA 22314.

You may submit comments identified by the Federal Docket Management System (FDMS) Number in the heading of this document by any of the following methods; however, the Agency encourages use of the Web site that is listed first. It will provide the most efficient and timely method of receiving and processing your comments. Do not submit the same comments by more than one method.

• Federal eRulemaking Portal: Go to http://www.regulations.gov. Search docket number FMCSA-2011-0131, and follow the online instructions for submitting comments.

• Fax: 1-202-493-2251.

• Mail: Docket Management Facility; U.S. Department of Transportation, Room W12-140, 1200 New Jersey Avenue, SE., Washington, DC 20590-0001.

• Hand Delivery: Ground floor, Room W12-140, 1200 New Jersey Avenue, SE., Washington, DC, between 9 a.m. and 5 p.m., e.t., Monday through Friday, except Federal holidays.

Instructions: All submissions must include the Agency name and docket number (FMCSA-2011-0131). Note that all comments received will be posted without change to the Web site at http://www.regulations.gov, including any personal information provided. Please refer to the Privacy Act heading on http://www.regulations.gov for further information.

Docket: For access to the docket to read background documents or comments received, go to http://www.regulations.gov at any time or Room W12-140 on the ground floor of the West Building, 1200 New Jersey Avenue, SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review the U.S. Department of Transportation's complete Privacy Act Statement in the Federal Register published on January 17, 2008 (76 FR 17478). This information is also available at http://edocket.access.gpo.gov/2008/pdf/E-8-785.

FOR FURTHER INFORMATION CONTACT: Ms. Elaine M. Papp, Division Chief, Medical Programs, 202-366-4001, DOT-FMCSA (MC-PMP), 1200 New Jersey Avenue, SE., Washington, DC 20590. Office hours are from 8:30 a.m. to 5 p.m. Monday through Friday, except Federal holidays.

Information on Services for Individuals With Disabilities

For information on facilities or services for individuals with disabilities or to request special assistance at the meeting, contact Elaine M. Papp at 202-366-4001.

SUPPLEMENTARY INFORMATION: The preliminary agenda for the meeting includes:

10-10:15a.m. Call to Order, Introduction and Agenda Review.

10:15-10:45 a.m. Updated Evidence Report Diabetes Mellitus.

10:45-11:15 a.m. Preliminary Report on Cochlear Implants.

11:15-11:45 a.m. Public Comment Period.

11:45-12:45 p.m. Break for Lunch.

12:45-2 p.m. Update on 2007 Evidence Report on Sleep Apnea, Overview of 2007 Medical Expert Panel Opinions on Sleep Apnea.

2-2:30 p.m. Review on Previous MRB recommendations on Sleep Apnea.

2:30-4 p.m. Public Comment Period.

Breaks will be announced on meeting day and may be adjusted according to schedule changes, other meeting requirements.

Background

The Secretary of the Department of Transportation announced on November 2, 2010, the five medical experts who serve on the MRB. Section 4116 of the Safe, Accountable, Flexible, Efficient Transportation Equity Act: A Legacy for Users (SAFETEA-LU, Pub. L. 109-59) requires the Secretary of Transportation with the advice of the MRB to “establish, review, and revise medical standards for operators of Commercial Motor Vehicles (CMVs) that will ensure that the physical condition of operators is adequate to enable them operate the vehicles safely.” FMCSA is planning revisions to the physical qualification regulations of CMV drivers, and the MRB will provide the necessary science-based guidance to establish realistic and responsible medical standards.

The MRB operates in accordance with the Federal Advisory Committee Act (FACA) as announced in the Federal Register (70 FR 57642, October 3, 2005). The MRB is charged initially with the review of all current FMCSA medical standards (49 CFR 391.41), as well as proposing new science-based standards and guidelines to ensure that drivers operating CMVs in interstate commerce, as defined in CFR 390.5, are physically capable of doing so.

Meeting Participation

Attendance is open to the interested public, including medical examiners, motor carriers, drivers, and representatives of medical and scientific associations. Written comments for this MRB meeting will also be accepted beginning on June 30, 2011 and continuing until July 15, 2011, and should include the docket number that is listed in the ADDRESSES section. During the MRB meeting (11:15-11:45 a.m. and 2:30-4 p.m.), oral comments may be limited depending on how many persons wish to comment; and will be accepted on a first come, first serve basis as requestors register at the meeting. The comments must directly address relevant medical and scientific issues on the MRB meeting agenda. For more information, please view the following Web site: http://www.fmcsa.dot.gov/mrb.

Issued on: May 16, 2011.
Larry W. Minor,
Associate Administrator of Policy.

[FR Doc. 2011-12365 Filed 5-19-11; 8:45 am]

BILLING CODE 4910-EX-P